DEPARTMENT OF ENERGY

Federal Energy Regulatory Commission

[Docket Nos. CP05-13-000; CP05-11-000; CP05-12-000; CP05-14-000]

Ingleside Energy Center, LLC San Patricio Pipeline, LLC; Notice of Availability of the Final Environmental Impact Statement For The Proposed Ingleside Energy Center Lng Terminal And Pipeline Project

June 10, 2005.

The staff of the Federal Energy Regulatory Commission (FERC or Commission) has prepared this final environmental impact statement (EIS) on the liquefied natural gas (LNG) import terminal and natural gas pipeline facilities proposed by Ingleside Energy Center, LLC and San Patricio Pipeline, LLC (collectively referred to as Ingleside San Patricio) in the above-referenced dockets.

The final EIS was prepared to satisfy the requirements of the National Environmental Policy Act (NEPA). The staff concludes that approval of the proposed project with appropriate mitigating measures, as recommended, would have limited adverse environmental impact. The final EIS also evaluates alternatives to the proposal, including system alternatives, alternative sites for the LNG import terminal, and pipeline alternatives.

Ingleside San Patricio's proposed facilities would have a nominal output of about 1.0 billion cubic feet of imported natural gas per day to the U.S. market. In order to provide LNG import, storage, and pipeline transportation services, Ingleside San Patricio requests Commission authorization to construct, install, and operate an LNG terminal and natural gas pipeline facilities.

The final EIS addresses the potential environmental effects of the construction and operation of the following LNG terminal and natural gas pipeline facilities in San Patricio and Nueces Counties, Texas:

• A new marine terminal basin connected to the La Quinta Channel that would include a ship maneuvering area and one protected berth to unload up to 140 LNG ships per year;

• Two double containment LNG storage tanks with a nominal working volume of approximately 160,000 cubic meters (1,006,000 barrels equivalent);

• LNG vaporization and processing equipment;

• 26.4 miles of 26-inch-diameter natural gas pipeline; and

• nine interconnects with existing intrastate and interstate pipelines, and related meter stations.

As proposed, the project would be integrated with the adjacent Occidental Chemical Company manufacturing complex in order for the two facilities to offset the other's respective heating and cooling needs. The use of the chemical manufacturing complex's cooling water would serve as a source of vaporization heat.

The final EIS has been placed in the public files of the FERC and is available for public inspection at: Federal Energy Regulatory Commission, Public Reference Room, 888 First Street, NE., Room 2A, Washington, DC 20426, (202) 502-8371.

A limited number of copies of the final EIS are available from the Public Reference Room identified above. In addition, copies of the final EIS have been mailed to federal, state, and local agencies; public interest groups; individuals and affected landowners who requested a copy of the final EIS; libraries; newspapers; and parties to this proceeding.

In accordance with the Council on Environmental Quality's (CEQ) regulations implementing NEPA, no agency decision on a proposed action may be made until 30 days after the U.S. Environmental Protection Agency publishes a notice of availability of a final EIS. However, the CEQ regulations provide an exception to this rule when an agency decision is subject to a formal internal appeal process which allows other agencies or the public to make their views known. In such cases, the agency decision may be made at the same time the notice of the final EIS is published, allowing both periods to run concurrently. The Commission decision for this proposed action is subject to a 30-day rehearing period.

Additional information about the project is available from the Commission's Office of External Affairs at 1-866-208-FERC or on the FERC Internet Web site (http://www.ferc.gov) using the “eLibrary” link. Click on the “eLibrary” link, click on “General Search” and enter the docket number excluding the last three digits in the Docket Number field. Be sure you have selected the appropriate date range. For assistance, please contact FERC Online Support at FERCOnlineSupport@ferc.gov or toll free at 1-866-208-3676 or for TTY, contact 202-502-8659. The “eLibrary” link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries, and direct links to the documents. Go to the “eSubscription” link on the FERC Internet Web site.

Magalie R. Salas,
Secretary.

[FR Doc. E5-3099 Filed 6-16-05; 8:45 am]

BILLING CODE 6717-01-P